DEPARTMENT OF ENERGY

Federal Energy Regulatory Commission

[Docket No. RP00-390-004]

Granite State Gas Transmission, Inc.; Notice of Compliance Filing

February 7, 2002.

Take notice that on January 31, 2002, Granite State Gas Transmission, Inc. (Granite State) tendered its filing as part of its FERC Gas Tariff, Third Revised Volume No. 1, the tariff sheets listed in Appendix A to the filing, with an effective date of April 1, 2002.

Granite State states that the filing is being made in compliance with the Commission's January 16, 2002 order in this proceeding.

Granite State states that copies of its filing have been mailed to all firm and interruptible customers, affected state commissions, and parties on the official service list in this proceeding.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-3479 Filed 2-12-02; 8:45 am]

BILLING CODE 6717-01-P